MILITARY COMPENSATION AND RETIREMENT MODERNIZATION COMMISSION

Solicitation of Written Comments by the Military Compensation and Retirement Modernization Commission

AGENCY: Military Compensation and Retirement Modernization Commission.

ACTION: Notice seeking comments.

SUMMARY: The Military Compensation and Retirement Modernization Commission (MCRMC) was established by the National Defense Authorization Act FY 2013. Pursuant to the Act, the Commission is seeking written comments from the general public and interested parties on measures to modernize the military compensation and retirement systems.

DATES: Submit comments by November 1, 2013. Pursuant to the Act, the Secretary of Defense will transmit recommendations on the modernization of the military compensation and retirement systems to the Commission. After the Commission has received the Secretary's recommendations it will reopen the period for public comment by notice in the Federal Register and on the internet Web site of the Commission. www.mcrmc.gov.

ADDRESSES: Electronic responses are preferred and may be addressed to www.mcrmc.gov. Written responses should be addressed to Military Compensation and Retirement Modernization Commission, P.O. Box 13170, Arlington VA 22209. Email responses may be addressed to response@mcrmc.gov.

FOR FURTHER INFORMATION CONTACT: Christopher Nuneviller, Associate Director, Military Compensation and Retirement Modernization Commission, P.O. Box 13170, Arlington, VA 22209, telephone 703-697-2080, fax 703-697-8330, email christopher.nuneviller@mcrmc.gov.

SUPPLEMENTARY INFORMATION: The Military Compensation and Retirement Modernization Commission (MCRMC) was established by the National Defense Authorization Act FY 2013, Public Law 112-239, 126 Stat. 1787 (2013). Pursuant to the Act, the Secretary of Defense will transmit recommendations on the modernization of the military compensation and retirement systems to the Commission and Congress. The Commission is required to seek written comment from the general public and interested parties, to hold public hearings on the recommendations of the Secretary and to transmit to the President a report containing the findings and conclusions of the Commission together with legislative language to implement its recommendations by May 1, 2014.

Under the Act, the Commission will make its recommendations only after it examines all laws, policies and practices of the Federal Government that result in any direct payment of authorized or appropriated funds to current and former members (veteran and retired) of the uniformed services, including the reserve components of those services, as well as the spouses, family members, children, survivors, and other persons authorized to receive such payments as a result of their connection to the members of these uniformed services. See § 671(b)(1)(A).

The Commission will also examine all laws, policies, and practices of the Federal Government that result in any expenditure of authorized or appropriated funds to support the persons named in § 671(b)(1)(A) and their quality of life, including:

• Health, disability, survivor, education, and dependent support programs of the Department of Defense and the Department of Veterans Affairs, including outlays from the various Federal trust funds supporting those programs;

• Department of Education impact aid;

• Support or funding provided to States, territories, colleges and universities;

• Department of Defense morale, recreation, and welfare programs, the resale programs (military exchanges and commissaries), and dependent school systems;

• The tax treatment of military compensation and benefits; and military family housing. See, § 671 (b)(1)(B).

In addition, the Act allows the Commission to examine such other matters as it considers appropriate. See, § 671 (b)(1)(C).

To begin its task the Commission will take comments from the public on measures to modernize the military compensation and retirement systems. After the Commission receives the recommendations of the Secretary of Defense, it will take further comment from the public and hold hearings on the recommendations of the Secretary.

It is the policy of the MCRMC to include all comments it receives in the public docket without change and to make them available on its Web site including any personal information provided unless comments include information claimed and identified as confidential business information (CBI) or other information whose disclosure is restricted by statute.

Christopher Nuneviller,
Associate Director, Administration and Operations.

[FR Doc. 2013-23969 Filed 9-30-13; 8:45 am]

BILLING CODE 7310-S1-P